DEPARTMENT OF HEALTH AND HUMAN SERVICES

Office of the National Coordinator; Announcement of the American Health Information Community Members

ACTION: Notice.

SUMMARY: This notice announces the selection of the American Health Information Community (the Community) members in accordance with the Federal Advisory Committee Act (Pub. L. 92-463, 5 U.S.C., App.)

The following individuals have been selected by the Secretary to serve on the American Health Information Community. From the private sector listed alphabetically: Craig R. Barrett, Chairman, Intel Corporation, Nancy Davenport-Ennis, CEO, National Patient Advocate Foundation, Lillee Smith Gelinas, R.N., Chief Nursing Officer, VHA Inc., Douglas E. Henley, M.D., Executive Vice President, American Academy of Family Physicians, Kevin D. Hutchinson, CEO, SureScripts, Charles N. Kahn III, President, Federation of American Hospitals, Steven S. Reinemund, CEO and Chairman, PepsiCo, Scott P. Serota, President and CEO, Blue Cross Blue Shield Association. From the public sector listed alphabetically: Julie Louise Gerberding, M.D., Director Centers for Disease Control and Prevention, Mark B. McClellan, M.D. Administrator, Centers for Medicare and Medicaid Services, Michelle O'neill, Acting Under Secretary for Technology, Department of Commerce, Jonathan B. Perlin, M.D., Under Secretary for Health, Department of Veterans Affairs, E. Mitchell Roob, Secretary, Indiana Family and Social Services Administration, Linda M. Springer, Director, Office of Personnel Management, Mark J. Warshawsky, Assistant Secretary for Economic Policy, Department of the Treasury, William Winkenwerder Jr., M.D., Assistant Secretary of Defense, Department of Defense.

FOR FURTHER INFORMATION CONTACT: http://www.hhs.gov/healthit.

SUPPLEMENTARY INFORMATION: The American Health Information Community will advise the Secretary and recommend specific actions to achieve a common interoperability framework for health information technology (IT) and serve as a forum for participation from a broad range of stakeholders to provide input on achieving interoperability of health IT. The Community shall not exceed 17 voting members, including the Chair, and members shall be appointed by the Secretary.

Dated: September 23, 2005.
Dana Haza,
Acting Director of the Office of Programs and Coordination, Office of the National Coordinator.

[FR Doc. 05-19451 Filed 9-28-05; 8:45 am]

BILLING CODE 4150-24-P